DEPARTMENT OF STATE

[Public Notice 7994]

Culturally Significant Objects Imported for Exhibition Determinations: “Plants of Virtue and Rocks by a Stream” by Shitao

ACTION: Notice, correction.

SUMMARY: On August 14, 2012, notice was published on pages 48582-3 of the Federal Register (volume 77, number 157) of determinations made by the Department of State pertaining to the object “Plants of Virtue and Rocks by a Stream” by Shitao. The referenced notice is corrected here to change the name of the exhibition in which that object will appear to “The Artful Recluse: Painting, Poetry, and Politics in 17th-Century China”.

FOR FURTHER INFORMATION CONTACT: For further information, including a listing of the exhibit object, contact Ona M. Hahs, Attorney-Adviser, Office of the Legal Adviser, U.S. Department of State (telephone: 202-632-6473). The mailing address is U.S. Department of State, SA-5, L/PD, Fifth Floor (Suite 5H03), Washington, DC 20522-0505.

Dated: August 21, 2012.
J. Adam Ereli,
Principal Deputy Assistant Secretary, Bureau of Educational and Cultural Affairs, Department of State.

[FR Doc. 2012-21019 Filed 8-24-12; 8:45 am]

BILLING CODE 4710-05-P